DEPARTMENT OF HEALTH AND HUMAN SERVICES

National Institutes of Health

National Institute of Allergy and Infectious Diseases; Cancellation of Meeting

Notice is hereby given of the cancellation of the National Institute of Allergy and Infectious Diseases Special Emphasis Panel, October 26, 2004, 1 p.m. to October 26, 2004, 4 p.m., National Institutes of Health, Rockledge 6700, 6700B Rockledge Drive, Bethesda, MD 20817 which was published in the Federal Register on October 6, 2004, 69 FR 193 page 59942.

The meeting is cancelled due to the withdrawal of the application to be reviewed.

Dated: October 14, 2004.
LaVerne Y. Stringfield,
Director, Office of Federal Advisory Committee Policy.

[FR Doc. 04-23659 Filed 10-21-04; 8:45 am]

BILLING CODE 4140-01-M